NATIONAL AERONAUTICS AND SPACE ADMINISTRATION

[Notice 05-151]

NASA Advisory Council; Meeting

AGENCY: National Aeronautics and Space Administration.

ACTION: Notice of Meeting.

SUMMARY: In accordance with the Federal Advisory Committee Act, Public Law 92-463, as amended, the National Aeronautics and Space Administration announces a meeting of the NASA Advisory Council.

DATES: Tuesday, November 29, 2005, 8 a.m. to 5 p.m.; and Wednesday, November 30, 2005, 8 a.m. to 2 p.m.

ADDRESSES: On Tuesday, November 29, 2005, the meeting will be held at the Rayburn House Office Building (RHOB), Room 2318.

The RHOB is located southwest of the Capitol on a site bounded by Independence Avenue, South Capitol Street, First Street, and C Street, SW., (Use the Independence Avenue entrance.) On Wednesday, November 30, 2005, the meeting will be held at the Senate Dirksen Office Building (SDOB), Room 562. The SDOB is located northeast of the Capitol, adjoining the Hart Senate Office Building on a site bounded by Constitution Avenue, Second Street, First Street, and C Street, NE., (Use the Constitution Avenue entrance.)

FOR FURTHER INFORMATION CONTACT: Mr. Christopher Blackerby, Designated Federal Official, National Aeronautics and Space Administration, Washington, DC 20546, 202/358-4688.

SUPPLEMENTARY INFORMATION: The meeting will be open to the public up to the seating capacity of the room. The agenda for the meeting includes the following topics:

• Welcoming remarks.

• Council organizational structure and membership.

• Exploration Systems Architecture Study Overview.

• Shuttle/Station Operations Overview.

• Science Overview.

• Aeronautics Research Overview.

• Workforce Overview (including Minority Business, Education).

• Audit and Finance Overview.

It is imperative that the meeting be held on these dates to accommodate the scheduling priorities of the key participants.

Dated: November 3, 2005.
P. Diane Rausch,
Advisory Committee Management Officer, National Aeronautics and Space Administration.

[FR Doc. 05-22389 Filed 11-9-05; 8:45 am]

BILLING CODE 7510-13-P